DEPARTMENT OF TRANSPORTATION

Office of the Secretary

[Docket No. DOT-OST-2014-0175]

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Cynthia M. Vaughan, Acting Director, Departmental Office of Human Resource Management, (202) 366-4088.

SUPPLEMENTARY INFORMATION: The persons named below have been selected to serve on one or more Departmental PRBs.

Issued in Washington, DC, on October 1, 2014.
Cynthia M. Vaughan,
Acting Director, Departmental Office of Human Resource Management.

Department Of Transportation

Federal Highway Administration

Alicandri, Elizabeth

Arnold, Robert E.

Bezio, Brian R.

Brown, Janice W.

Conner, Clara H.

Curtis, Joyce A.

Elston, Debra S.

Evans, Monique R.

Finfrock, Arlan E. Jr.

Fleury, Nicolle M.

Furst, Anthony T.

Griffith, Michael S.

Holian, Thomas P.

Hughes Rayman, Caitlin

Kehrli, Mark R.

Knopp, Martin C.

Konove, Elissa K.

Leonard, Kenneth

Lindley, Jeffrey A.

Lucero, Amy C.

Mammano, Vincent P.

Marchese, April L.

Mcdade, Jonathan D.

Mcelroy, Regina S.

Nadeau, Gregory G.

Pagan-Ortiz, Jorge E.

Paniati, Jeffrey F.

Ridenour, Melisa L.

Saunders, Ian C.

Schaftlein, Shari M.

Schmidt, Robert T.

Shepherd, Gloria M.

Shores, Sarah J.

Solomon, Gerald L.

Stephanos, Peter J.

Suarez, Ricardo

Tischer, Marylynn

Trentacoste, Michael F.

Waidelich, Walter C. Jr.

Walker, Cheryl J.

Whitlock, Warren S.

Winter, David R.

Federal Motor Carrier Administration

Amos, Anna J.

Bronrott, William A.

Collins, Anne L.

Darling, Thomas F. S. Iii

Delorenzo, Joseph P.

Fromm, Charles J.

Horan, Charles A. Iii

Miller, Robert W.

Minor, Larry W.

Paden, William R.

Quade, William A. Iii

Reed, Pamela G.

Regal, G. Kelly

Smith, Steven K.

Thomas, Curtis L.

Van Steenburg, John W.

Federal Railroad Administration

Cummings, Stacy A.

Hill, Corey W.

Hynes, Ronald E.

Lauby, Robert C.

Moscoso, Brenda J.

Nissenbaum, Paul

Osborn, Peter W.

Pennington, Rebecca A.

Porter, Melissa L.

Tunna, John M.

Federal Transit Administration

Ahmad, Mokhtee

Biehl, Scott A.

Buchanan-Smith, Henrika

Carter, Dorval R.

Garliauskas, Lucy

Gehrke, Linda M.

Krochalis, Richard F.

Mcmillan, Therese W.

Mello, Mary E.

Nifosi, Dana C.

Patrick, Robert C.

Rogers, Leslie T.

Shazor, Marilyn G.

Simon, Marisol R.

Taylor, Yvette G.

Tuccillo, Robert J.

Valdes, Vincent

Welbes, Matthew J.

Maritime Administration

Bohnert, Roger V.

Brennan, Dennis J.

Brohl, Helen A.

Dunlap, Susan L.

Helis, James A.

Kumar, Shashi N.

Mc Mahon, Christopher J.

Moschkin, Lydia

Parker, Franklin R.

Pixa, Rand R.

Quinn, John P.

Szabat, Joel M.

Tokarski, Kevin M.

National Highway Traffic Safety Administration

Beuse, Nathaniel M.

Borris, Frank S. Ii

Brown, Michael L.

Coggins, Colleen P.

Donaldson, K. John

Friedman, David J.

Gunnels, Mary D.

Johnson, Tim J.

Lewis, Nancy L.

Marshall, John W.

Mclaughlin, Brian M.

Mclaughlin, Susan

Michael, Jeffrey P.

Posten, Raymond R.

Saul, Roger A.

Shelton, Terry T.

Smith, Daniel C.

Sprague, Mary G.

Vincent, O. Kevin

Wood, Stephen P.

Office Of The Secretary

Abraham, Julie

Aylward, Anne D.

Baldwin, Kristen K.

Brown, Gregory A.

Carlson, Terence W.

Darr, Carol C.

Farley, Audrey L.

Feinberg, Sarah E.

Fontenot, Brodi L.

Forsgren, Janet R.

Geier, Paul M.

Gretch, Paul L.

Hazeur, Camille M.

Herlihy, Thomas W.

Homan, Todd M.

Horn, Donald H.

Hu, Patricia S.

Hurdle, Lana T.

Ishihara, David S.

Jackson, Ronald A.

Jefferson, Daphne Y.

Johns, Robert C.

Jones, Mary N.

Jones, Stephanie J.

Kaleta, Judith S.

Keck, Meghan A.

Lang, Steven R.

Lee, Robert M. Jr.

Lefevre, Maria S.

Lew, Shoshana M.

Lowder, Michael W.

Mcdermott, Susan E.

Mckinney, Richard L.

Neal, Brandon T.

Partridge, Ellen L.

Petrosinowoolverton, Marie

Popkin, Stephen M.

Rivait, David J.

Schmitt, Rolf R.

Smith, Willie H.

Vaughan, Cynthia M.

Washington, Keith E.

Wells, John V.

Womack, Kevin C.

Pipeline And Hazardous Materials Safety Administration

Butters, Timothy P.

Daugherty, Linda

El-Sibaie, Magdy A.

Mayberry, Alan K.

Poyer, Scott A.

Schoonover, William S.

Summitt, Monica J.

Sutherland, Vanessa L.

Tsaganos, Vasiliki B.

Wiese, Jeffrey D.

Saint Lawrence Seaway Development Corporation

Blackman, Anita K.

Lavigne, Thomas A.

Middlebrook, Craig H.

Pisani, Salvatore L.

[FR Doc. 2014-24197 Filed 10-8-14; 8:45 am]

BILLING CODE 4910-9X-P